DEPARTMENT OF TRANSPORTATION

Federal Aviation Administration

14 CFR Part 39

[Docket No. FAA-2021-0449; Project Identifier 2018-SW-001-AD]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS350B, AS350BA, AS350B1, AS350B2, AS350B3, AS350D; and Model AS355E, AS355F, AS355F1, AS355F2, AS355N, AS355NP helicopters. This proposed AD was prompted by reports that the lanyards (bead chain tethers), which hold the quick release pins to the forward bracket assembly of certain litter kits, can loop around the directional control pedal stubs, limiting the movement of the pedals. This proposed AD would require modification of the lanyard attachment location for certain litter kit installations. The FAA is proposing this AD to address the unsafe condition on these products.

DATES: The FAA must receive comments on this proposed AD by July 19, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Airbus Helicopters, 2701 North Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0449; or in person at Docket Operations between 9 a.m. and 5 p.m., Monday through Friday, except Federal holidays. The AD docket contains this NPRM, the Transport Canada AD, any comments received, and other information. The street address for Docket Operations is listed above.

FOR FURTHER INFORMATION CONTACT: Andrea Jimenez, Aerospace Engineer, COS Program Management Section, Operational Safety Branch, Compliance & Airworthiness Division, FAA, 1600 Stewart Ave., Mail Stop: Room 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2021-0449; Project Identifier 2018-SW-001-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Mail Stop: Room 410, Westbury, NY 11590; telephone (516) 228-7330; email andrea.jimenez@faa.gov. Any commentary that the FAA receives which is not specifically designated as CBI will be placed in the public docket for this rulemaking.

Background

Transport Canada, which is the aviation authority for Canada, has issued Canadian AD CF-2017-37, dated December 19, 2017 (Canadian AD CF-2017-37), to correct an unsafe condition for Airbus Helicopters Model AS 350 B, AS 350 BA, AS 350 B1, AS 350 B2, AS 350 B3, AS 350 D, AS 355 E, AS 355 F, AS 355 F1, AS 355 F2, AS 355 N, and AS 355 NP helicopters. Transport Canada advises that there have been reports that the lanyards, which hold the quick release pins to the forward bracket assembly of certain litter kits, can loop around the directional control pedal stubs, limiting the movement of the pedals, which affects the control of the flight. If this condition exists and is not corrected during installation, this limitation may not be apparent until the pedal input is required in flight. This condition, if not addressed, could result in difficulty controlling the helicopter.

Accordingly, Canadian AD CF-2017-37 requires modification of the lanyard attachment location for certain litter kit installations. Canadian AD CF-2017-37 also specifies that installation of an affected part number litter kit is prohibited unless the installation conforms to the requirements of Airbus Helicopters Service Bulletin SB-AHCA-128, Revision 0, dated March 24, 2017.

FAA's Determination

These helicopters have been approved by the aviation authority of Canada and are approved for operation in the United States. Pursuant to the FAA's bilateral agreement with Canada, Transport Canada, its technical representative, has notified the FAA of the unsafe condition described in its AD. The FAA is proposing this AD after evaluating all known relevant information and determining that the unsafe condition described previously is likely to exist or develop on other helicopters of these same type designs.

Related Service Information Under 1 CFR Part 51

The FAA reviewed Airbus Helicopters Service Bulletin SB-AHCA-128, Revision 0, dated March 24, 2017. This service information specifies procedures for modifying the bead chain tether attachment locations for litter kits with certain part numbers. The modification includes relocating the bead chain tethers by removing the screws and washers for the pip pins on the forward bracket assembly; filling the empty holes with rivets; determining the new locations of and drilling new holes; and securing the bead chain tethers on the top side of the forward bracket assembly in the new hole locations.

This service information is reasonably available because the interested parties have access to it through their normal course of business or by the means identified in the ADDRESSES section.

Proposed AD Requirements in This NPRM

This proposed AD would require accomplishing the actions specified in the service information already described, except as discussed under “Differences Between this Proposed AD and the Transport Canada AD.”

Differences Between This Proposed AD and the Transport Canada AD

This proposed AD would require a pre-flight check prior to each flight to determine if there is interference between the lanyards that hold the quick release pins to the forward bracket assembly of the litter kit and the flight controls. This pre-flight check requirement would be terminated upon completion of the modification of the litter kit installation. Canadian AD CF-2017-37 does not include a requirement for the pre-flight check prior to each flight to determine if there is interference between the lanyards and the flight controls.

Costs of Compliance

The FAA estimates that this AD, if adopted as proposed, would affect 967 helicopters of U.S. Registry. The FAA estimates the following costs to comply with this proposed AD.

Estimated Costs
Action | Labor cost | Parts cost | Cost per product | Cost on U.S. operators
Pre-flight check for lanyard interference | 0.5 work-hour × $85 per hour = $42.50 per inspection cycle | $0 | $42.50 per inspection cycle | $41,097.50 per inspection cycle.
Modification of lanyard attachment location | 1 work-hour × $85 per hour = $85 | 0 | $85 | $82,195.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2021-0449; Project Identifier 2018-SW-001-AD.

(a) Comments Due Date

The FAA must receive comments on this airworthiness directive (AD) by July 19, 2021.

(b) Affected ADs

None.

(c) Applicability

This AD applies to Airbus Helicopters Model AS350B, AS350BA, AS350B1, AS350B2, AS350B3, and AS350D helicopters; and Model AS355E, AS355F, AS355F1, AS355F2, AS355N, and AS355NP helicopters, certificated in any category, with litter kits installed having any part number specified in paragraphs (c)(1) through (3) of this AD:

(1) Part number (P/N) 350-200034 (left-hand litter kit).

(2) P/N 350-200194 (left-hand litter kit).

(3) P/N 350-200144 (right-hand litter kit).

(d) Subject

Joint Aircraft Service Component (JASC) Code: 6700, Rotorcraft Flight Control.

(e) Unsafe Condition

This AD was prompted by reports that the lanyards (bead chain tethers), which hold the quick release pins to the forward bracket assembly of certain litter kits, can loop around the directional control pedal stubs, limiting the movement of the pedals, which affect the control of the flight. The FAA is issuing this AD to address interference between the litter kit lanyards and the flight controls. The unsafe condition, if not addressed, could result in limited flight control movement and difficulty controlling the helicopter.

(f) Compliance

Comply with this AD within the compliance times specified, unless already done.

(g) Required Actions

(1) For litter kits having any part specified in paragraphs (c)(1) through (3) of this AD: Prior to each flight until the modification required by paragraph (g)(2) of this AD is accomplished, do a pre-flight check to determine if there is interference (e.g., limited movement of the pedals due to the lanyards that hold the quick release pins to the forward bracket assembly being looped around the directional control pedal stubs) between the lanyards that hold the quick release pins to the forward bracket assembly and the pedals. If interference is found, before further flight, do the modification required by paragraph (g)(2) of this AD for the affected litter kit. The pre-flight check may be performed by the owner/operator (pilot) holding at least a private pilot certificate and must be entered into the aircraft records showing compliance with this AD in accordance with § 43.9(a)(1) through (4) and § 91.417(a)(2)(v). The record must be maintained as required by § 91.417, § 121.380, or § 135.439.

(2) Within 25 hours time-in-service (TIS) after the effective date of this AD, modify the attachment location of the lanyard for litter kits having any part specified in paragraphs (c)(1) through (3) of this AD. Do the modification in accordance with paragraph 3.B.2., “Procedure,” of the Accomplishment Instructions of Airbus Helicopters Service Bulletin SB-AHCA-128, Revision 0, dated March 24, 2017.

Note 1 to paragraph (g): Litter kits, P/N 350-200034 and P/N 350-200194, may have been installed under STC SR00406NY (for Model AS355E, AS355F, AS355F1, AS355F2, AS355N, and AS355NP helicopters) or STC SR00407NY (for Model AS350B, AS350BA, AS350B1, AS350B2, AS350B3, and AS350D helicopters). Litter kit P/N 350-200144 may have been installed under STC SR00458NY (for Model AS350BA, AS350B2, and AS350B3 helicopters).

(h) Parts Installation Limitation

As of the effective date of this AD, no person may install a litter kit having a part number identified in paragraphs (c)(1) through (3) of this AD, on any helicopter, unless the installation is modified as required by paragraph (g)(2) of this AD.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Andrea Jimenez, Aerospace Engineer, COS Program Management Section, Operational Safety Branch, Compliance & Airworthiness Division, FAA, 1600 Stewart Ave., Mail Stop: Room 410, Westbury, NY 11590; telephone (516) 228-7330; email andrea.jimenez@faa.gov.

(2) For information about AMOCs, contact the Manager, International Validation Branch, FAA, 10101 Hillwood Pkwy., Fort Worth, TX 76177; telephone (817) 222-5110; email 9-AVS-AIR-730-AMOC@faa.gov.

(3) For service information identified in this AD, contact Airbus Helicopters, 2701 North Forum Drive, Grand Prairie, TX 75052; telephone (972) 641-0000 or (800) 232-0323; fax (972) 641-3775; or at https://www.airbus.com/helicopters/services/technical-support.html. You may view this referenced service information at the FAA, Office of the Regional Counsel, Southwest Region, 10101 Hillwood Pkwy., Room 6N-321, Fort Worth, TX 76177. For information on the availability of this material at the FAA, call (817) 222-5110.

(4) The subject of this AD is addressed in Transport Canada AD CF-2017-37 dated December 19, 2017. You may view the Transport Canada AD on the internet at https://www.regulations.gov in Docket No. FAA-2021-0449.

Issued on May 27, 2021.
Lance T. Gant,
Director, Compliance & Airworthiness Division, Aircraft Certification Service.

[FR Doc. 2021-11615 Filed 6-2-21; 8:45 am]

BILLING CODE 4910-13-P